DEPARTMENT OF ENERGY

Announcement of Public Meetings To Receive Comments on Draft Solicitation for Advanced Fossil Energy Projects

AGENCY: U.S. Department of Energy.

ACTION: Notice of public meetings to receive comments on draft solicitation.

SUMMARY: The Loan Programs Office (LPO) of the Department of Energy (DOE) announces that it will hold a series of public meetings to receive comments on the draft of a potential future solicitation announcement for Federal Loan Guarantees for Advanced Fossil Energy Projects.

DATES: The public meetings will be held on the following dates and times in Room 6E-069 at DOE's Forrestal Building, 1000 Independence Ave. SW., Washington, DC:

Date | Time
July 31, 2013 | 1:30 p.m.-3:30 p.m.
August 14, 2013 | 10:00 a.m.-12:00 p.m.
August 27, 2013 | 10:00 a.m.-12:00 p.m.

ADDRESSES: The draft solicitation is available on LPO's Web site at http://www.lgprogram.energy.gov/.

United States citizens that want to comment on the draft of a potential future solicitation announcement for Federal Loan Guarantees for Advanced Fossil Energy Projects are invited to attend any of the meetings listed in DATES. To attend, send an email with the names, affiliation, and titles of the attendee(s) to: DraftLPOFossilSoliciationComments@hq.doe.gov by 5:00 p.m. ET at least two days prior to the relevant public meeting.

FOR FURTHER INFORMATION CONTACT: David G. Frantz, DraftLPOFossilSoliciationComments@hq.doe.gov.

SUPPLEMENTARY INFORMATION: DOE published a Request for Comments on Draft Solicitation in the Federal Register on July 9, 2013 (78 FR 41046). Persons desiring to submit comments may do so either in writing according to the directions in that publication or verbally by attending one of the meetings announced in this notice. It is not necessary to do both. All comments, whether submitted in writing or given at a meeting, will be considered. Neither method of commenting will cause comments to be given greater or lesser consideration. However, only United States citizens can attend any of the public meetings. Non-U.S. citizens should provide their comments to the draft solicitation in writing.

Persons attending any of the meetings should note:

(1) The purpose of the meetings is for DOE to receive comments on the draft solicitation. DOE intends to consider all comments (whether provided in writing or at a meeting) prior to issuing the final solicitation. Specific projects will not be addressed by DOE until applications are submitted pursuant to a final solicitation, if any.

(2) Persons other than representatives from DOE may be at any of the meetings.

(3) DOE will take notes of each meeting, including attendees' names, affiliations, and titles. DOE may publish those notes on the LPO Web site.

(4) Written materials provided to DOE at any of the meetings may be published on the LPO Web site.

(5) Arrive no later than thirty minutes prior to the scheduled meeting time in order to allow sufficient time for security screening.

DOE is considering a potential future solicitation announcement for Federal Loan Guarantees for Advanced Fossil Energy Projects. Should DOE choose to proceed which such a solicitation, applicants would be invited to apply for loan guarantees from DOE to finance projects and facilities located in the United States that employ innovative and advanced fossil energy technologies (“Advanced Fossil Energy Projects”). DOE may make up to Eight Billion Dollars ($8,000,000,000) in loan guarantee authority available under the proposed solicitation for Advanced Fossil Energy Projects. DOE is considering including in any potential future solicitation projects or facilities that (1) Avoid, reduce, or sequester air pollutants or anthropogenic emission of greenhouse gases, (2) employ New or Significantly Improved Technology as compared to Commercial Technology in service in the United States at the time the Term Sheet is issued (as each capitalized term is defined in the regulations implementing Title XVII, which are set forth in Part 609 under Chapter II of Title 10 of the Code of Federal Regulations), and (3) use advanced fossil energy technology (within the meaning of that term in Section 1703(b)(2) of Title XVII) and are described in one or more of the following technology areas: (a) Advanced resource development, (b) carbon capture, (c) low-carbon power systems, or (d) efficiency improvements. DOE is assuming that the scope of any potential solicitation would be broad. All fossil fuels, including, without limitation, coal, natural gas, oil, shale gas, oil gas, coal bed methane, methane hydrates, and others, may be included in the potential future solicitation. DOE is considering including both electrical and non-electrical fossil energy use.

While comments are sought on all aspects of the draft solicitation, DOE is particularly interested in comments regarding the weighting percentage allocated to each category for evaluations (Programmatic, Technical, Policy, and Financial), and the categories themselves.

Statutory authority: Title XVII of the Energy Policy Act of 2005 (42 U.S.C. 16511 et seq.).

Issued in Washington, DC, on July 16, 2013.
David G. Frantz,
Deputy Executive Director, Loan Programs Office.

[FR Doc. 2013-17669 Filed 7-22-13; 8:45 am]

BILLING CODE 6450-01-P